DEPARTMENT OF HEALTH AND HUMAN SERVICES

Meeting of the Chronic Fatigue Syndrome Advisory Committee

AGENCY: Office of the Assistant Secretary for Health, Office of the Secretary, Department of Health and Human Services.

ACTION: Notice.

SUMMARY: As stipulated by the Federal Advisory Committee Act, the U.S. Department of Health and Human Services (HHS) is hereby giving notice that a meeting of the Chronic Fatigue Syndrome Advisory Committee (CFSAC) will take place via webinar. This webinar meeting will be open to the public. The webinar will include public comment session(s). Registration is required in advance for both public participants and comment. Any individual who wishes to participate in the public meeting and/or in the public comment session should register at www.blsmeetings.net/CFSACdec2013/.

DATES: The webinar meeting will be held on Tuesday, December 10, 2013 and Wednesday, December 11, 2013 from 12:00 p.m. until 5:00 p.m. (EST) on both days.

ADDRESSES: The meeting will be conducted by webinar.

FOR FURTHER INFORMATION CONTACT: Nancy C. Lee, M.D., Designated Federal Officer, Chronic Fatigue Syndrome Advisory Committee, Department of Health and Human Services, Office on Women's Health, 200 Independence Avenue SW., Room 712E, Washington, DC 20201. Phone: 202-690-7650; Fax: 202-401-4005. cfsac@hhs.gov.

SUPPLEMENTARY INFORMATION: The CFSAC is authorized under 42 U.S.C. 217a, Section 222 of the Public Health Service Act, as amended. The purpose of the CFSAC is to provide advice and recommendations to the Secretary of Health and Human Services, through the Assistant Secretary for Health (ASH), on issues related to chronic fatigue syndrome (CFS). The issues can include factors affecting access and care for persons with CFS; the science and definition of CFS; and broader public health, clinical, research and educational issues related to CFS.

The agenda for this meeting is being developed and will be posted on the CFSAC Web site www.hhs.gov/advocomcfsac and at www.blsmeetings.net/CFSACdec2013/. The webinar will be a “virtual meeting” using Adobe Acrobat Connect Pro Meeting, a Web conferencing product that allows users to conduct live meetings and presentations over the Internet.

Using Adobe Connect Pro Meeting software requires that you have an Internet connection, a Web browser, and the latest version of Adobe Flash Player to participate in the webinar. Adobe Connect Pro is supported by many operating systems, including Windows, Macintosh, Linux, and Solaris as well as the most widely used browsers, including Internet Explorer, Firefox, and Safari.

We recommend that you test your computer prior to participation. You can do this by going to http://admin.adobeconnect.com/common/help/en/support/meeting_test.htm. Instructions for accessing the webinar will be available at: www.blsmeetings.net/CFSACdec2013/webinarinformation.cfm.

This webinar will be limited to 500 participants. All individuals who want to view the webinar will need to register. You will receive instructions for accessing the webinar after you register. Members of the public will have the opportunity to provide public comment during the meeting via telephone, pre-recorded video, or written comments. Registration is required in advance in order to submit public comments. An individual who would like to present comments should note this when completing the registration form. The deadline to register and submit public comments is Friday, November 29, 2013. We will confirm your time for public comment via email by December 4, 2013. Please refer to the agenda for scheduled public comment periods. Each speaker via telephone or pre-recorded video will be limited to five minutes. We will give priority to individuals who have not provided public comment within the past 12 months. We will be unable to place international calls for public comments. We can accept written or prerecorded video testimony from international locations. Further details are available at www.blsmeetings.net/CFSACdec2013/publicComments.cfm.

Only testimony submitted for public comment and received in advance of the meeting are part of the official meeting record and will be posted to the CFSAC Web site. Materials submitted should not include sensitive personal information, such as social security number, birthdates, driver's license number, state identification or foreign country equivalent, passport number, financial account number, or credit or debit card number. If you wish to remain anonymous the document must specify this.

Dated: November 18, 2013.
Nancy C. Lee,
Designated Federal Officer, Chronic Fatigue Syndrome Advisory Committee, U.S. Department of Health and Human Services.

[FR Doc. 2013-27926 Filed 11-20-13; 8:45 am]

BILLING CODE 4150-42-P